DEPARTMENT OF HEALTH AND HUMAN SERVICES

Public Meeting of the President's Council on Bioethics on September 8-9, 2005

AGENCY: The President's Council on Bioethics, HHS.

ACTION: Notice.

SUMMARY: The President's Council on Bioethics (Leon R. Kass, M.D., Chairman) will hold its twenty-first meeting, at which, among other things, it will continue its discussion of ethical issues relating to the treatment of the aged and the long-term care of patients with dementia. Subjects discussed at past Council meetings (though not on the agenda for the present one) include: Cloning, assisted reproduction, reproductive genetics, IVF, ICSI, PGD, sex selection, inheritable genetic modification, patentability of human organisms, neuroscience, aging retardation, lifespan-extension, and organ procurement for transplantation. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004), Reproduction and Responsibility: The Regulation of New Biotechnologies (March 2004), and Alternative Sources of Human Pluripotent Stem Cells: A White Paper (May 2005).

DATES: The meeting will take place Thursday, September 8, 2005, from 9 a.m. to 4:30 p.m. e.t.; and Friday, September 9, 2005, from 8:30 a.m. to 12:30 p.m. e.t.

ADDRESSES: Wyndham City Center, 1143 New Hampshire Avenue, NW., Washington, DC 20037. Phone 202-775-0800.

Agenda: The meeting agenda will be posted at http://www.bioethics.gov.

Public Comments: The Council encourages public input, either in person or in writing. At this meeting, interested members of the public may address the Council, beginning at 11:30 am, on Friday, September 9. Comments are limited to no more than five minutes per speaker or organization. As a courtesy, please inform Ms. Diane Gianelli, Director of Communications, in advance of your intention to make a public statement, and give your name and affiliation. To submit a written statement, mail or e-mail it to Ms. Gianelli at one of the addresses given below.

FOR FURTHER INFORMATION CONTACT: Ms. Diane Gianelli, Director of Communications, The President's Council on Bioethics, Suite 700, 1801 Pennsylvania Avenue, Washington, DC 20006. Telephone: 202-296-4669. E-mail: info@bioethics.gov. Web site: http://www.bioethics.gov.

Dated: August 10, 2005.
Richard Roblin,
Acting Executive Director, The President's Council on Bioethics.

[FR Doc. 05-16449 Filed 8-18-05; 8:45 am]

BILLING CODE 4154-06-P